DEPARTMENT OF TRANSPORTATION

Federal Aviation Administration

Aviation Rulemaking Advisory Committee (ARAC); New Task Assignment for the ARAC: Establishment of Airman Testing Standards and Training Working Group

AGENCY: Federal Aviation Administration (FAA), DOT.

ACTION: Notice

SUMMARY: The FAA assigned the ARAC a new task arising from recommendations of the Airman Testing Standards and Training Aviation Rulemaking Committee (ARC). The ARC recommended ways to ensure that the FAA's airman testing and training materials better support reduction of fatal general aviation accidents. The new task is to integrate 14 CFR part 61 aeronautical knowledge and flight proficiency requirements for the private pilot and flight instructor certificates and the instrument rating into a single Airman Certification Standards document for each type of certificate and rating; to develop a detailed proposal to realign FAA training handbooks with the Airman Certification Standards documents; and to propose knowledge test item bank questions consistent with the integrated Airman Certification Standards documents and the principles set forth in the ARC's recommendations.

This action item informs the public of the new ARAC's task and solicits membership for the new Airman Testing Standards and Training Working Group (Working Group).

FOR FURTHER INFORMATION CONTACT: Van L. Kerns, Manager, Regulatory Support Division, FAA Flight Standards Service, AFS 600, FAA Mike Monroney Aeronautical Center P.O. Box 25082 Oklahoma City, OK 73125; telephone (405) 954-4431, email van.l.kerns@faa.gov.

SUPPLEMENTARY INFORMATION:

Background

The FAA established ARAC to provide advice and recommendations to the FAA Administrator on the FAA's rulemaking activities. ARAC's objectives are to improve the development of the FAA's regulations by providing information, advice, and recommendations related to aviation issues.

On September 21, 2011, the FAA chartered the ARC for the U.S. aviation community to develop recommendations for more effective training and testing in the areas of aeronautical knowledge and flight proficiency required for safer operation in today's National Airspace System (NAS).

The FAA's charge to the ARC was to help ensure that FAA's technical information related to existing standards for airman knowledge and skill tests, computer testing supplements, knowledge test guides, practical test standards and training handbooks incorporates the most current, relevant, and effective approaches to training and testing. The FAA specifically tasked the ARC with providing recommendations on a process for ongoing stakeholder participation in developing the content of these materials, and methodologies for developing better test item bank questions. The FAA also asked the ARC to develop a prioritized list of certificates and ratings to update.

This new task is the FAA's response to several of the ARC's recommendations. Establishment of the ARAC's Working Group creates a process by which the stakeholders' real world aviation education and training expertise can contribute to the development of materials and methodologies. In accordance with the ARC's recommended certificate and rating priorities, the Working Group will address the private pilot, flight instructor, and instrument rating training and testing materials by developing an integrated Airman Certification Standards document for each one.

By aligning the aeronautical knowledge testing standards required by 14 CFR part 61 with the flight proficiency standards set out in the existing Practical Test Standards (PTS), the integrated Airman Certification Standard will enhance the relevance, reliability, validity, and effectiveness of aeronautical knowledge testing and training materials and thus support the FAA's goal of reducing fatal general aviation accidents. The FAA is also tasking the ARAC's Working Group to develop a detailed proposal to realign and, as appropriate, streamline and consolidate existing FAA guidance material (e.g., handbooks) with each integrated Airman Certification Standards documents; and to propose methodologies to ensure that knowledge test item bank questions are consistent with both the Airman Certification Standards documents and the test question development principles set forth in the ARC's recommendations.

In August 2012, the ARAC's Executive Committee discussed the proposed actions for this tasking. This notice advises the public that the FAA has assigned, and the Executive Committee has accepted, a new task to develop the items listed below. The FAA has specifically tasked the ARAC's Working Group to support the FAA's goal to enhance general aviation safety and reduce the fatal general aviation accident rate by providing:

(1) An integrated Airman Certification Standards document that aligns the aeronautical knowledge testing standards required by 14 CFR part 61 with the flight proficiency standards (“Areas of Operation”) set out in 14 CFR part 61 and the existing Practical Test Standards (PTS) for (a) the private pilot and (b) flight instructor certificates and (c) the instrument rating. To accomplish this task, the Working Group should follow the ARC's recommendations to integrate appropriate elements of aeronautical knowledge and risk management into each Area of Operation in the current Practical Test Standards documents.

(2) A recommendation on priorities for revision of additional certificates and ratings, along with ways to ensure expert review of any revisions to these documents.

(3) A detailed proposal to realign and, as appropriate, streamline and consolidate existing FAA guidance material (e.g., the handbooks listed below) with the integrated Airman Certification Standards documents developed in accordance with item (1). The Working Group will also develop and recommend a process for review and revision of these materials.

(4) Proposed knowledge test item bank questions that are consistent with both the newly developed Airman Certification Standards documents and the test question development principles set forth in the ARC's recommendations. The Working Group will also recommend options that provide for expert outside review (“boarding”) of proposed questions while safeguarding the integrity of the testing process.

The Working Group is expected to develop a report containing each of the listed elements. Any disagreements should be documented, including the rationale for each position and the reasons for the disagreement.

In developing this report, the Working Group shall familiarize itself with:

1. A Report to the FAA from the Airman Testing Standards and Training Aviation Rulemaking Committee: Recommendations to Enhance Airman Knowledge Test Content and Its Processes and Methodologies for Training and Testing (www.faa.gov/aircraft/draft_docs/arc).

2. Aeronautical knowledge standards set forth in 14 CFR part 61, Certification: Pilots, Flight Instructors, and Ground Instructors.

3. Flight proficiency standards set forth in 14 CFR part 61, Certification: Pilots, Flight Instructors, and Ground Instructors.

4. FAA Airman Knowledge Test Guide (FAA-G-8082-17E).

5. Current Practical Test Standards documents for Private Pilot Airplane (FAA-S-8081-14B); Flight Instructor Airplane (FAA-S-8081-6C); and Instrument Rating for Airplane, Helicopter, and Powered Lift (FAA-S-8081-4E).

6. Current FAA guidance materials, to include the Pilot's Handbook of Aeronautical Knowledge (FAA-H-8083-25A); the Airplane Flying Handbook (FAA-H-8083-3A); the Aviation Instructor's Handbook (FAA-H-8083-9A); the Instrument Flying Handbook (FAA-H-8083-15A); and the Instrument Procedures Handbook (FAA-H-8083-1A).

Schedule

The recommendations must be forwarded to the ARAC Executive Committee for review and approval no later than September 30, 2013.

ARAC Acceptance of New Task

The ARAC's Executive Committee has accepted the task and assigned it to the newly-established ARAC Working Group. The Working Group serves as staff to ARAC and assists in the analysis of the assigned new task. ARAC must review and approve the Working Group's recommendations. If ARAC accepts the Working Group's recommendations, it will send them to the FAA in the form of a written report.

Working Group Activity

The Working Group must comply with the procedures adopted by ARAC. As part of the procedures, the Working Group must:

1. Recommend a work plan for completion of the task, including the rationale supporting such a plan, for consideration at the next ARAC Executive Committee meeting held following publication of this notice.

2. Provide a status report at each meeting of the ARAC Executive Committee.

3. Draft the recommendations report and required analyses and/or any other related materials or documents.

4. Present the final recommendations to the ARAC Executive Committee for review and approval.

Participation in the ARAC Working Group

The Working Group will be comprised of aviation professionals with experience and expertise in airman training and testing, and technical experts having an interest in the assigned new task. The FAA would like a wide range of members to ensure that all aspects of airman testing and training, including best practices, are considered in the development of its recommendations.

If you wish to become a member of the Working Group, please write the person listed under the caption FOR FURTHER INFORMATION CONTACT expressing such desire. Describe your interest in the new task and state the expertise you would bring to the Working Group. We must receive all requests by October 2, 2012.

The ARAC Executive Committee and the FAA will review the requests and advise you whether your request is approved.

If you are chosen for membership on the Working Group, you must actively participate by attending all meetings and providing written comments when requested to do so. You must devote the resources necessary to support the Working Group in meeting any assigned deadlines. You must keep your management chain, and those you may represent, advised of the Working Group's activities and decisions to ensure the proposed technical solutions do not conflict with your sponsoring organization's position, when the subject is presented to ARAC for approval. Once the Working Group has begun deliberations, members will not be added or substituted without the approval of the FAA and the Working Group chair.

The Secretary of Transportation determined the formation and use of ARAC is necessary and in the public interest in connection with the performance of duties imposed on the FAA by law. ARAC meetings are open to the public. However, ARAC Working Group's meetings are not open to the public, except to the extent individuals with an interest and expertise are selected to attend. The FAA will make no public announcement of the Working Group's meetings.

Issued in Washington, DC, on September 5, 2012.
Lirio Liu,
Acting Director, Office of Rulemaking.

[FR Doc. 2012-22451 Filed 9-11-12; 8:45 am]

BILLING CODE 4910-13-P